DEPARTMENT OF VETERANS AFFAIRS

[OMB Control No. 2900-0668]

Agency Information Collection Activity Under OMB Review: Supplemental Income Questionnaire (For Philippine Claims Only)

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Comments must be submitted on or before January 18, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0668” in any correspondence.

FOR FURTHER INFORMATION CONTACT: Cynthia Harvey-Pryor, Office of Quality, Privacy and Risk, Department of Veterans Affairs, 811 Vermont Avenue, Floor 5, Area 368, Washington, DC 20420, (202) 461-5870 or email cynthia.harvey-pryor@va.gov. Please refer to “OMB Control No. 2900-0668” in any correspondence.

SUPPLEMENTARY INFORMATION:

Authority: 38 U.S.C. 1521, 1541, 1542.

Title: Supplemental Income Questionnaire (For Philippine Claims Only) (VA Form 21P-0784).

OMB Control Number: 2900-0668.

Type of Review: Reinstatement without change of a previously approved collection.

Abstract: Eligibility to benefits may be established based on service in the Philippine Scouts, Commonwealth Army of the Philippines, or recognized guerrilla organizations (38 U.S.C. 107). Title 38 U.S.C. 1521, 1541, and 1542 provide for payment of Pension to eligible veterans, surviving spouses, and surviving children. A claimant's eligibility for pension is determined, in part, by countable family income and net worth. Income information is requested by this form under the authority of 38 U.S.C. 1506.

VBA uses VA Form 21P-0784 to gather income information that is necessary to determine eligibility for Pension benefits. Entitlement to pension cannot be determined without complete information about a claimant's family income and net worth. Claimants residing in the Philippines have different types of income than claimants residing in the United States, and this form better captures those types of income than other VA Pension forms.

An agency may not conduct or sponsor, and a person is not required to respond to a collection of information unless it displays a currently valid OMB control number. The Federal Register Notice with a 60-day comment period soliciting comments on this collection of information was published at 82 FR 47080 on October 10, 2017.

Affected Public: Individuals and households.

Estimated Annual Burden: 30 hours.

Estimated Average Burden per Respondent: 15 minutes.

Frequency of Response: Once.

Estimated Number of Respondents: 120.

By direction of the Secretary.
Cynthia Harvey-Pryor,
Department Clearance Officer, Office of Quality, Privacy and Risk, Department of Veterans Affairs.

[FR Doc. 2017-27266 Filed 12-18-17; 8:45 am]

BILLING CODE 8320-01-P